DEPARTMENT OF HOUSING AND URBAN DEVELOPMENT

[Docket No. FR 5604-N-07]

Notice of Proposed Information Collection: Disaster Recovery Grant Reporting (DRGR) System

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: July 9, 2012.

ADDRESSES: Interested persons are invited to submit comments regarding this proposal. Comments should refer to the proposal by name and/or OMB Control Number and should be sent to: LaRuth Harper, Department of Housing Urban and Development, 451 7th Street SW., Room 7233, Washington, DC 20410.

FOR FURTHER INFORMATION CONTACT: Stanley Gimont, Director, Office of Block Grant Assistance at (202) 708-3587.

SUPPLEMENTARY INFORMATION: The Department will submit the proposed information collection to OMB for review, as required by the Paperwork Reduction Act of 1995 (44 U.S.C. Chapter 35 as Amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Disaster Recovery Grant Reporting System.

OMB Control Number: 2506-0165.

Description of the need for the Information and proposed use: The Disaster Recovery Grant Reporting (DRGR) System is a grants management system used by the Office of Community Planning and Development to monitor special appropriation grants under the Community Development Block Grant program. This collection pertains to Community Development Block Grant Disaster Recovery (CDBG-DR) and Neighborhood Stabilization Program (NSP) grant appropriations.

The CDBG program is authorized under Title I of the Housing and Community Development Act of 1974, as amended. Following major disasters, Congress appropriates supplemental CDBG funds for disaster recovery. According to Section 104(e)(1) of the Housing and Community Development Act of 1974, HUD is responsible for reviewing grantees' compliance with applicable requirements and their continuing capacity to carry out their programs. Grant funds are made available to states and units of general local government, Indian tribes, and insular areas, unless provided otherwise by supplemental appropriations statute, based on their unmet disaster recovery needs.

The Neighborhood Stabilization Program (NSP) was established for the purpose of stabilizing communities that have suffered as a result of foreclosures and property abandonment. On July 21, 2010, President Obama signed the Dodd-Frank Wall Street Reform and Consumer Protection Act (Dodd-Frank Act) into law (Pub. L. 111-203). This law provides $1 billion of formula grant funding for the redevelopment of foreclosed and abandoned homes to be allocated under the terms of Title XII, Division A, Section 2 of the American Recovery and Reinvestment Act (Recovery Act) and by the formula factors provided in Title III of Division B of the Housing and Economic Recovery Act of 2008 (Pub. L. 110-289) (HERA). In 2008, HERA provided for an initial round of formula funding to regular State and entitlement Community Development Block Grant (CDBG) grantees through the Neighborhood Stabilization Program (NSP1).¹ The Recovery Act provided for a neighborhood stabilization grant competition open to state and local governments, as well as non-profit groups and consortia that may include for-profit entities (NSP2).² The Dodd-Frank Act is the third round of Neighborhood Stabilization Funding (NSP3).

¹ In October of 2010, NSP1 and NSP3 were consolidated under the Unified NSP1 and NSP3 Notice (FR 75 64322).

² 74 FR 21377.

Although NSP funds are otherwise to be considered CDBG funds, HERA, the Recovery Act and the Dodd-Frank Act make substantive revisions to the eligibility, use, and method of distribution of NSP3 funds. For NSP1 and NSP3, grantees are required to submit substantial amendments to their consolidated plans to secure funding they are entitled to under the formula grants.

NSP3 Technical Assistance grants were appropriated under Dodd-Frank Wall Street Reform and Consumer Protection Act (Dodd-Frank Act) (Pub. L. 111-203). Grantees were selected through a competitive process set forth in the NSP3-TA Notice of Funding Availability (NOFA),³ with the purpose of assessing the need for technical assistance and targeting technical assistance in order to achieve the highest level of performance and results for the programs administered by HUD's Office of Community Planning and Development. Eligible applicants include states, units of local government, public housing authorities, non-profit organizations, for-profit entities, and joint applicants.

³ 77 FR 16848.

Agency form numbers, if applicable:

SF-424 Application for Federal Assistance.

Members of affected public: DRGR is used to monitor CDBG-DR, NSP, and NSP-TA grants. CDBG-DR and NSP grant funds are made available to states and units of general local government, Indian tribes, and insular areas, unless provided otherwise by supplemental appropriations statute. NSP-TA grant funds are awarded on a competitive basis and are open to state and local governments, as well as non-profit groups and consortia that may include for-profit entities.

Estimation of the total numbers of hours needed to prepare the Information collection including number of respondents, frequency of response, and hours of response: Community Development Block Grant Disaster Recovery (CDBG-DR) Grants: The DRGR system has approximately 72 open CDBG disaster recovery grants. HUD requires each grantee to report their performance into the system quarterly. In addition, grantees submit vouchers for drawdown of funds as needed. Some grantees have more than one open grant under different appropriation rules and are required to report on grants separately.

For average sized grantees (< $100m in grant funds), the Department estimates 9 hours for quarterly reporting in DRGR. Larger grantees with funds in excess of $100M+ require a substantially greater number of reporting activities, thus averaging approximately 57 hours per quarter. The estimated annual total number of hours for Disaster Grant reporting is 2,241.

Neighborhood Stabilization Program (NSP) Grants: The system has 577 NSP1 and NSP3 grants in the system. The 270 NSP3 grantees must prepare and submit substantial amendments to their action plans, sign grant agreements, and set up activities in DRGR for a total of 15,323 hours.

The Department estimates that it takes 4 hours per grant for quarterly reporting and 38 hours for voucher submissions. The estimated annual total number of hours for all 577 NSP1 and 3 grantees to report in DRGR is 9,232 hours. Voucher submissions are estimated at 3,899 burden hours per year. Total burden hours including application, grant setup and reporting are estimated at 28,494.

Neighborhood Stabilization Program 3 Technical Assistance (NSP3-TA) Grants: DRGR currently has 10 NSP3-TA grants in the system. The Department estimates 1,848 total hours including 42 applications and grant setup for the 10 selected applicants. Quarterly reporting for the 10 grants is estimated at 3 hours per grant, per response, for an annual total of 160 hours. Total annual voucher submissions are estimated at 68 hours.

Status of the proposed information collection: This notice precedes a continuation of the existing burden hour request.

Authority: The Paperwork Reduction Act of 1995, 44 U.S.C. Chapter 35, as amended.

Dated: May 2, 2012.
Mercedes Márquez,
Assistant Secretary for Community Planning and Development.

[FR Doc. 2012-11180 Filed 5-8-12; 8:45 am]

BILLING CODE 4210-67-P